DEPARTMENT OF THE INTERIOR

National Park Service

Final Environmental Impact Statement; Environmental Education Center, Yosemite National Park, Mariposa County, CA; Notice of Approval of Record of Decision

SUMMARY: Pursuant to § 102(2)(C) of the National Environmental Policy Act of 1969 (Pub. L. 91-190, as amended) and the regulations promulgated by the Council on Environmental Quality (40 CFR 1505.2), the Department of the Interior, National Park Service (NPS) has prepared and approved a Record of Decision for the Final Environmental Impact Statement for development of a new environmental education center in Yosemite National Park. The requisite no-action “wait period” was initiated February 26, 2010, with the Environmental Protection Agency's Federal Register notification of the filing of the Final EIS.

Decision: As soon as practical the NPS will begin to implement development of a new environmental education center at Henness Ridge, to be operated jointly by NPS and Yosemite Institute. The new center replaces the current facility at Crane Flat—it will be on federal property and owned by the NPS. As part of the project a water system will be developed by the NPS at nearby Chinquapin. This alternative was identified and analyzed as the agency-preferred Alternative 3 in the Final EIS (and includes no substantive changes from the course of action described in the Draft EIS). The full ranges of foreseeable environmental consequences were assessed, and appropriate mitigation measures are included in the approved plan. Both a No Action alternative and an additional “action” alternative were also identified and analyzed. During an extended scoping period, strong community support was expressed for concepts that were developed as the agency-preferred alternative presented in the Draft EIS. This base of support was reaffirmed during public review of the Draft EIS. As documented in the Draft and Final EIS, the selected alternative was deemed to be the “environmentally preferred” course of action.

Copies: Interested parties desiring to review the Record of Decision may obtain a copy by contacting the Superintendent, Yosemite National Park, P.O. Box 577, Yosemite, CA 95389 or via telephone request at (209) 372-0286.

Signed: April 5, 2010.
Cicely A. Muldoon,
Acting Regional Director, Pacific West Region.

[FR Doc. 2010-11059 Filed 5-10-10; 8:45 am]

BILLING CODE 4312-FY-P